DEPARTMENT OF TRANSPORTATION

Federal Aviation Administration

14 CFR Part 39

[Docket No. FAA-2007-27628; Directorate Identifier 2007-CE-025-AD; Amendment 39-15713; AD 2007-07-06 R1]

RIN 2120-AA64

Airworthiness Directives; Cessna Aircraft Company (Type Certificate Previously Held by Columbia Aircraft Manufacturing) Models LC40-550FG, LC41-550FG, and LC42-550FG Airplanes

AGENCY: Federal Aviation Administration (FAA), Department of Transportation (DOT).

ACTION: Final rule.

SUMMARY: We are adopting a new airworthiness directive (AD) to revise AD 2007-07-06, which applies to certain Cessna Aircraft Company (type certificate previously held by Columbia Aircraft Manufacturing) (Cessna) Models LC40-550FG, LC41-550FG, and LC42-550FG airplanes. AD 2007-07-06 currently requires the following: Adding information to the limitations section of the airplane flight manual (AFM); repetitively inspecting the aileron and the elevator linear bearings and control rods for foreign object debris, scarring, or damage; and taking all necessary corrective actions. Since we issued AD 2007-07-06, Cessna has issued a new service bulletin that contains procedures for installing an access panel to facilitate the required inspections. Consequently, this AD retains the actions currently required in AD 2007-07-06; allows installing access panels; and changes the serial number applicability. We are issuing this AD to prevent jamming in the aileron and elevator control systems, which could result in failure. This failure could lead to loss of control.

DATES: This AD becomes effective on December 5, 2008.

On December 5, 2008, the Director of the Federal Register approved the incorporation by reference of Cessna Mandatory Service Bulletin SB-07-002D, dated May 29, 2008, and Cessna Mandatory Service Bulletin SB-07-018, dated May 29, 2008, listed in this AD.

As of April 9, 2007 (72 FR 15822, April 3, 2007), the Director of the Federal Register approved the incorporation by reference of Columbia Mandatory Service Bulletin SB-07-002, dated March 14, 2007, listed in this AD.

ADDRESSES: For service information identified in this AD, contact Cessna Aircraft Company, Product Support, P.O. Box 7706, Wichita, Kansas 67227; phone (316) 517-5800; fax: (316) 942-9006.

To view the AD docket, go to U.S. Department of Transportation, Docket Operations, M-30, West Building Ground Floor, Room W12-140, 1200 New Jersey Avenue, SE., Washington, DC 20590, or on the Internet at http://www.regulations.gov. The docket number is FAA-2007-27628; Directorate Identifier 2007-CE-025-AD.

FOR FURTHER INFORMATION CONTACT: Jeff Morfitt, Aerospace Engineer, FAA, Seattle Aircraft Certification Office, 1601 Lind Avenue, SW., Renton, WA 98057; telephone: (425) 917-6405; fax: (425) 917-6590; jeff.morfitt@faa.gov.

SUPPLEMENTARY INFORMATION:

Discussion

On August 1, 2008, we issued a proposal to amend part 39 of the Federal Aviation Regulations (14 CFR part 39) to include an AD that would apply to certain Cessna Models LC40-550FG, LC41-550FG, and LC42-550FG airplanes. This proposal was published in the Federal Register as a notice of proposed rulemaking (NPRM) on August 7, 2008 (73 FR 45902). The NPRM proposed to revise AD 2007-07-06 with a new AD that will retain the actions currently required in AD 2007-07-06; allow installing access panels; and change the serial number applicability.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 1,495 airplanes in the U.S. registry.

We estimate the following costs to do the inspection:

Labor cost | Parts cost | Total cost per airplane | Total cost on U.S. operators
4 work-hours × $80 per hour = $320 | Not applicable | $320 | $478,400

We estimate the following costs to do the optional access panel installation:

Labor cost | Parts cost | Total cost per airplane
14 work-hours × $80 per hour = $1,120 | Not applicable | $1,120

Warranty credit for installing the access panel may be given to the extent noted in Cessna Mandatory Service Bulletins SB-07-018, dated May 29, 2008.

Authority for This Rulemaking

Title 49 of the United States Code specifies the FAA's authority to issue rules on aviation safety. Subtitle I, section 106 describes the authority of the FAA Administrator. Subtitle VII, Aviation Programs, describes in more detail the scope of the agency's authority.

We are issuing this rulemaking under the authority described in Subtitle VII, Part A, Subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2007-27628; Directorate Identifier 2007-CE-025-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2007-07-06, Amendment 39-15011 (72 FR 15822, April 3, 2007), and adding the following new AD:

2007-07-06 R1 Cessna Aircraft Company (type certificate previously held by Columbia Aircraft Manufacturing): Amendment 39-15713; Docket No. FAA-2007-27628; Directorate Identifier 2007-CE-025-AD.

Effective Date

(a) This AD becomes effective on December 5, 2008.

Affected ADs

(b) This AD revises AD 2007-07-06, Amendment 39-15011.

Applicability

(c) This AD applies to the following airplane models and serial numbers that are certificated in any category:

Model | Serial Nos.
LC40-550FG | 40001 through 40079.
LC41-550FG | 41001 through 41800 and 411001 through 411041.
LC42-550FG | 42001 through 42569 and 421001 through 421006.

Unsafe Condition

(d) This AD is the result of reports of possible foreign object contamination of the linear bearings. We are issuing this AD to prevent jamming in the aileron and elevator control systems, which could result in failure. This failure could lead to loss of control.

Compliance

(e) To address this problem, you must do the following, unless already done:

Actions | Compliance | Procedures
(1) Insert Appendix A of Columbia Mandatory Service Bulletin SB-07-002, dated March 14, 2007, or Appendix A of Cessna Mandatory Service Bulletin SB-07-002D, dated May 29, 2008, into the limitations section of the airplane flight manual (AFM) | Before further flight after April 9, 2007 (the compliance date retained from AD 2007-07-06) | Under 14 CFR 43.7, the owner/operator holding at least a private pilot certificate is allowed to do the AFM insertion requirement of this AD. Make an entry into the aircraft logbook showing compliance with this portion of the AD per compliance with 14 CFR 43.9.
(2) Access and inspect the aileron bearings in both wings and the elevator bearings in the fuselage for foreign object debris | Initially inspect within the next 35 hours time-in-service (TIS) after April 9, 2007 (the compliance date retained from AD 2007-07-06) Repetitively inspect thereafter at intervals not to exceed 12 calendar months | Following Columbia Mandatory Service Bulletin SB-07-002, dated March 14, 2007, or Cessna Mandatory Service Bulletin SB-07-002D, dated May 29, 2008, and FAA-approved maintenance procedures. The appropriate maintenance manual contains these procedures.
(3) Remove any debris found during any inspection required in paragraph (e)(2) of this AD | Before further flight after the inspection in which the debris is found | Following Columbia Mandatory Service Bulletin SB-07-002, dated March 14, 2007, or Cessna Mandatory Service Bulletin SB-07-002D, dated May 29, 2008, and FAA-approved maintenance procedures. The appropriate maintenance manual contains these procedures.
(4) Inspect the aileron and elevator control rods for scarring or damage near the linear bearings | Initially inspect within the next 35 hours TIS after April 9, 2007 (the compliance date retained from AD 2007-07-06). Repetitively inspect thereafter at intervals not to exceed 12 calendar months | Following Columbia Mandatory Service Bulletin SB-07-002, dated March 14, 2007, or Cessna Mandatory Service Bulletin SB-07-002D, dated May 29, 2008, and FAA-approved maintenance procedures. The appropriate maintenance manual contains these procedures.
(5) Contact the manufacturer at the address specified in paragraph (h)(3) of this AD for a repair scheme if any scarring or damage is found during any inspection required in paragraph (e)(4) of this AD | Make all repairs before further flight after the inspection in which scarring or damage is found | Following Columbia Mandatory Service Bulletin SB-07-002, dated March 14, 2007, or Cessna Mandatory Service Bulletin SB-07-002D, dated May 29, 2008, and FAA-approved maintenance procedures. The appropriate maintenance manual contains these procedures.
(6) For the inspections required in paragraphs (e)(2) and (e)(4) of this AD, you may install a linear bearing access panel instead of drilling an inspection hole. If the hole has previously been drilled, the access panel may also be installed in addition to the inspection hole | At any time after the effective date of this AD | Following Cessna Mandatory Service Bulletin SB-07-018, dated May 29, 2008.

Note 1: Previous compliance with paragraphs (e)(1) through (e)(5) of this AD using Columbia Mandatory Service Bulletin SB-07-002A, dated August 29, 2007; Cessna Mandatory Service Bulletin SB-07-002B, dated December 10, 2007; or Cessna Mandatory Service Bulletin SB-07-002C, dated February 18, 2008, are acceptable methods of compliance.

Note 2: Compliance with Cessna Mandatory Service Bulletin SB-07-018, dated May 29, 2008, is not considered terminating action for this AD. This AD takes precedence over Cessna Mandatory Service Bulletin SB-07-018, dated May 29, 2008.

Alternative Methods of Compliance (AMOCs)

(f) The Manager, Seattle Aircraft Certification Office (ACO), FAA, ATTN: Jeff Morfitt, Aerospace Engineer, 1601 Lind Avenue, SW., Renton, WA 98057; telephone: (425) 917-6405; fax: (425) 917-6590, has the authority to approve AMOCs for this AD, if requested using the procedures found in 14 CFR 39.19. Before using any approved AMOC on any airplane to which the AMOC applies, notify your appropriate principal inspector (PI) in the FAA Flight Standards District Office (FSDO), or lacking a PI, your local FSDO.

(g) AMOCs approved for AD 2007-07-06 are approved for this AD.

Material Incorporated by Reference

(h) You must use Columbia Mandatory Service Bulletin SB-07-002, dated March 14, 2007, or Cessna Mandatory Service Bulletin SB-07-002D, dated May 29, 2008, and Cessna Mandatory Service Bulletin SB-07-018, page 1 dated May 29, 2008, pages 2 through 20 dated May 30, 2008, to do the actions required by this AD, unless the AD specifies otherwise.

(1) The Director of the Federal Register approved the incorporation by reference of Cessna Mandatory Service Bulletin SB-07-002D, dated May 29, 2008, and Cessna Mandatory Service Bulletin SB-07-018, page 1 dated May 29, 2008, pages 2 through 20 dated May 30, 2008, under 5 U.S.C. 552(a) and 1 CFR part 51.

(2) On April 9, 2007 (72 FR 15822, April 3, 2007), the Director of the Federal Register approved the incorporation by reference of Columbia Mandatory Service Bulletin SB-07-002, dated March 14, 2007.

(3) For service information identified in this AD, contact Cessna Aircraft Company, Product Support, P.O. Box 7706, Wichita, Kansas 67227.

(4) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on October 21, 2008.
John Colomy,
Acting Manager, Small Airplane Directorate, Aircraft Certification Service.

[FR Doc. E8-25500 Filed 10-30-08; 8:45 am]

BILLING CODE 4910-13-P